DEPARTMENT OF COMMERCE

National Oceanic and Atmospheric Administration

Agency Information Collection Activities; Submission to the Office of Management and Budget (OMB) for Review and Approval; Comment Request; Application Forms for Membership on a National Marine Sanctuary Advisory Council

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. This notice pertains to a requested revision and extension of the approved collection of information for national marine sanctuary advisory council applications. The purpose of this notice is to allow for 60 days of public comment preceding submission of the collection to OMB.

DATES: To ensure consideration, comments regarding this proposed information collection must be received on or before September 30, 2024.

ADDRESSES: Interested persons are invited to submit written comments to Adrienne Thomas, NOAA PRA Officer, at NOAA.PRA@noaa.gov. Please reference OMB Control Number 0648-0397 in the subject line of your comments. All comments received are part of the public record and will generally be posted on https://www.regulations.gov without change. Do not submit Confidential Business Information or otherwise sensitive or protected information.

FOR FURTHER INFORMATION CONTACT: Requests for additional information or specific questions related to collection activities should be directed to Sage Riddick, National Advisory Council Coordinator, Office of National Marine Sanctuaries, 1305 East West Highway, SSMC4, 10th Floor, Silver Spring, MD 20910, (240) 560-3365, and sage.riddick@noaa.gov.

SUPPLEMENTARY INFORMATION:

I. Abstract

This is a request for revision and extension of an approved information collection. Section 315 of the National Marine Sanctuaries Act (NMSA) (16 U.S.C. 1445a) allows the Secretary of Commerce to establish one or more advisory councils to advise and make recommendations to the Secretary regarding the designation and management of national marine sanctuaries. Executive Order 13178 (December 4, 2000) similarly established a Coral Reef Ecosystem Reserve Council pursuant to the NMSA for the Northwestern Hawaiian Islands Coral Reef Ecosystem Reserve. Councils are individually chartered for each site, or for the sanctuary system, to meet its specific needs. Once an advisory council has been chartered, a sanctuary superintendent starts a process to recruit members for that council by providing notice to the public and requesting interested parties to apply for the available seat(s) (e.g., Research, Education) and position(s) (i.e., council member or alternate). The information obtained through this application process will be used to determine the qualifications of the applicant for membership on the advisory council.

Two application forms are currently associated with this information collection: (a) National Marine Sanctuary Advisory Council Application form; and (b) National Marine Sanctuary Advisory Council Youth Seat Application form. Application form instructions will specify requirements imposed upon the agency when reviewing applicants as potential council members or alternates. Questions posed to applicants have been reviewed and an additional two questions are being added to solicit information on eligibility for a potential stipend program to decrease financial barriers to joining advisory councils. An additional section for demographic questions is also being added to include the newly updated Statistical Policy Directive No. 15: Standards for Maintaining, Collecting, and Presenting Federal Data on Race and Ethnicity and Recommendations on the Best Practices for the Collection of Sexual Orientation and Gender Identity Data on Federal Statistical Surveys, and to learn more about our applicants. Existing questions may be reordered, reworded, and at times, condensed to improve the organization of applicant responses and, thereby, simplify the applicant review process. We do not believe that such revisions to the application would appreciably change the average annual number of respondents or the reporting burden for the information requirements supporting solicitation of new advisory council members. To request and obtain a copy of the proposed application forms without charge, contact the individual listed in the FOR FURTHER INFORMATION CONTACT section.

II. Method of Collection

Complete applications may be submitted electronically via email (with attachments), by mail, online application, or by facsimile transmission.

III. Data

OMB Control Number: 0648-0397.

Form Number(s): None.

Type of Review: Regular submission (revision and extension of a currently approved collection).

Affected Public: Individuals or households; business or other for-profit organizations; not-for-profit institutions.

Estimated Number of Respondents: 900.

Estimated Time per Response: 1.25 hours.

Estimated Total Annual Burden Hours: 1,125 hours.

Estimated Total Annual Cost to Public: $450.00.

Respondent's Obligation: Voluntary.

Legal Authority: National Marine Sanctuaries Act (16 U.S.C. 1445a).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-16770 Filed 7-30-24; 8:45 am]

BILLING CODE 3510-NK-P